FEDERAL COMMUNICATIONS COMMISSION

47 CFR Part 79

[CG Docket No. 05-321; FCC 09-71]

Closed Captioning of Video Programming

AGENCY: Federal Communications Commission.

ACTION: Final rule; stay of effectiveness.

SUMMARY: In this document, the Commission temporarily stays the effectiveness of the closed captioning rule that requires video programming distributors in certain circumstances to forward closed captioning complaints to third parties. Because the “forwarding” requirement contained in the rule may conflict with statutory provisions under the Communications Act (the Act), a stay is appropriate pending review by the Commission of the “forwarding” provision of the rule.

DATES: 47 CFR 79.1(g)(3), published at 74 FR 1594, January 13, 2009, is stayed beginning February 19, 2010.

FOR FURTHER INFORMATION CONTACT: Amelia Brown, Consumer and Governmental Affairs Bureau, Disability Rights Office at (202) 418-2799 (voice), (202) 418-7804 (TTY), or e-mail at Amelia.Brown@fcc.gov.

SUPPLEMENTARY INFORMATION: This is a summary of the Commission's Order, FCC 09-71, Closed Captioning of Video Programming, CG Docket No. 05-231, Order Suspending Effective Date, adopted September 8, 2009, and released December 11, 2009. The full text of FCC 09-71 and copies of any subsequently filed documents in this matter will be available for public inspection and copying during regular business hours at the FCC Reference Information Center, Portals II, 445 12th Street, SW., Room CY-A257, Washington, DC 20554. FCC 09-71 and copies of subsequently filed documents in this matter also may be purchased from the Commission's duplicating contractor at Portals II, 445 12th Street, SW., Room CY-B402, Washington, DC 20554. Customers may contact the Commission's duplicating contractor at its Web site http://www.bcpiweb.com or by calling 1-800-378-3160.

To request materials in accessible formats for people with disabilities (Braille, large print, electronic files, audio format), send an e-mail to fcc504@fcc.gov or call the Consumer and Governmental Affairs Bureau at (202) 418-0530 (voice) or (202) 418-0432 (TTY). FCC 09-71 also can be downloaded in Word or Portable Document Format (PDF) at: http://www.fcc.gov/cgb/dro/caption.html.

Synopsis

1. On November 7, 2008, the Commission released Closed Captioning of Video Programming, Closed Captioning Requirements for Digital Television Receivers, CG Docket No. 05-231, ET Docket No. 99-254, Declaratory Ruling, Order, and Notice of Proposed Rulemaking, FCC 08-255, (2008 Closed Captioning Order), published at 74 FR 1594, January 13, 2009, which, among other things, requires video programming distributors in certain circumstances to forward closed captioning complaints to third parties. Such a requirement, however, appears to conflict with certain provisions of the Act that prohibit disclosure of personally identifiable information to third parties. To avoid placing video programming distributors in the untenable position of having to choose whether to comply with the closed captioning rule or with a conflicting statutory provision, the Commission temporarily suspends the effective date of the rule while the Commission considers how to revise it.

2. Specifically, amended 47 CFR 79.1(g)(3), adopted in the 2008 Closed Captioning Order, appears to conflict with the prohibitions contained in Sections 631(c) and 338(i) of the Act. In particular, cable or satellite operators would violate these provisions if they complied with 47 CFR 79.1(g)(3) by forwarding complaints containing a subscriber's personal information without first obtaining the subscriber's consent to disclose personally identifiable information. Given this apparent conflict, the Commission finds good cause to suspend the effective date of 47 CFR 79.1(g)(3) temporarily without prior notice and comment. Because allowing this rule to take effect would subject companies to conflicting legal obligations, the Commission finds that seeking comment on whether to suspend the rule would be impractical, unnecessary, and contrary to the public interest. The Commission intends to issue a notice of proposed rulemaking to seek comment on a revised rule for handling closed captioning complaints, to replace 47 CFR 79.1(g)(3) as adopted in the 2008 Closed Captioning Order.

Congressional Review Act

The Commission will send a copy of the Order Suspending Effective Date in a report to be sent to Congress and the Government Accountability Office pursuant to the Congressional Review Act.

Ordering Clause

Pursuant to 47 U.S.C. 154(i), 303(r) and 613, the Order Suspending Effective Date is adopted.

Federal Communications Commission.
Marlene H. Dortch,
Secretary.

[FR Doc. 2010-3267 Filed 2-18-10; 8:45 am]

BILLING CODE 6712-01-P